DEPARTMENT OF TRANSPORTATION

Office of the Secretary

[Docket No. DOT-OST-2003-15962]

Notice of Request for Renewal of a Previously Approved Collection

AGENCY: Office of the Secretary.

ACTION: Notice and request for comments.

SUMMARY: In accordance with the Paperwork Reduction Act of 1995 (44 U.S.C. Chapter 35, as amended), this notice announces that the Information Collection Request (ICR) abstracted below will be forwarded to the Office of Management and Budget (OMB) for renewal and comment. The ICR describes the nature of the information collection and its expected costs and burden. The Federal Register Notice with a 60-day comment period soliciting comments on the following collection of information was published on January 8, 2010 [Vol. 75, No. 5, Page 1112]. No comments were received.

DATES: Comments on this notice must be received by April 16, 2010 and sent to the attention of the DOT/OST Desk Officer, Office of Information and Regulatory Affairs, Office of Management and Budget, Docket library, Room 10102, 725 17th Street, NW., Washington, DC 20503 and Docket Number DOT-OST-2003-15962.

FOR FURTHER INFORMATION CONTACT: Lauralyn Remo, Air Carrier Fitness Division (X-56), Office of Aviation Analysis, Office of the Secretary, U.S. Department of Transportation, 1200 New Jersey Ave., SE., Washington, DC 20590, (202) 366-9721.

SUPPLEMENTARY INFORMATION:

Title: Procedures and Evidence Rules for Air Carrier Authority Applications:

14 CFR part 201—Air Carrier Authority under Subtitle VII of Title 49 of the United States Code—(Amended);

14 CFR part 204—Data to Support Fitness Determinations;

14 CFR part 291—Cargo Operations in Interstate Air Transportation.

OMB Control Number: 2106-0023

Type of Request: Renewal of previously approved collection.

Abstract: In order to determine the fitness of persons seeking authority to engage in air transportation, the Department collects information from them about their ownership, citizenship, managerial competence, operating proposal, financial condition, and compliance history. The specific information to be filed by respondents is set forth in 14 CFR parts 201 and 204.

Respondents: Persons seeking initial or continuing authority to engage in air transportation of persons, property, and/or mail.

Estimated Number of Respondents: 147.6.

Average Annual Burden per Respondent: 45.73 hours.

Estimated Total Burden on Respondents: 6,750 hours.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval. All comments will also become a matter of public record.

Issued in Washington, DC, on March 10, 2010.
Todd M. Homan,
Director, Office of Aviation Analysis.

[FR Doc. 2010-5819 Filed 3-16-10; 8:45 am]

BILLING CODE 4910-9X-P